DEPARTMENT OF LABOR

Employment and Training Administration

Workforce Innovation and Opportunity Act (WIOA) 2018 Lower Living Standard Income Level (LLSIL)

AGENCY: Employment and Training Administration (ETA), Labor.

ACTION: Notice.

SUMMARY: Title I of WIOA (Pub. L. 113-128) requires the U.S. Secretary of Labor (Secretary) to update and publish the LLSIL tables annually, for uses described in the law (including determining eligibility for youth). WIOA defines the term “low income individual” as one whose total family income does not exceed the higher level of the poverty line or 70 percent of the LLSIL. This issuance provides the Secretary's annual LLSIL for 2018 and references the current 2018 Health and Human Services “Poverty Guidelines.”

DATES: This notice is applicable May 29, 2018.

FOR FURTHER INFORMATION CONTACT OR QUESTIONS ON LLSIL: Please contact Samuel Wright, Department of Labor, Employment and Training Administration, 200 Constitution Avenue NW., Room C-4526, Washington, DC 20210; Telephone: 202-693-2870; Fax: 202-693-3015 (these are not toll-free numbers); Email address: wright.samuel.e@dol.gov. Individuals with hearing or speech impairments may access the telephone number above via Text Telephone (TTY/TDD) by calling the toll-free Federal Information Relay Service at 1-877-889-5627 (TTY/TDD).

FOR FURTHER INFORMATION CONTACT OR QUESTIONS ON FEDERAL YOUTH EMPLOYMENT PROGRAMS: Please contact Jennifer Kemp, Department of Labor, Employment and Training Administration, 200 Constitution Avenue NW., Room N-4464, Washington, DC 20210; Telephone: 202-693-3377; Fax: 202-693-3113 (these are not toll-free numbers); Email: kemp.jennifer.n@dol.gov. Individuals with hearing or speech impairments may access the telephone number above via TTY by calling the toll-free Federal Information Relay Service at 1-877-889-5627 (TTY/TDD).

SUPPLEMENTARY INFORMATION: The purpose of WIOA is to provide workforce investment activities through statewide and local workforce investment systems that increase the employment, retention, and earnings of participants. WIOA programs are intended to increase the occupational skill attainment by participants and the quality of the workforce, thereby reducing welfare dependency and enhancing the productivity and competitiveness of the Nation.

LLSIL is used for several purposes under the WIOA. Specifically, WIOA section 3(36) defines the term “low income individual” for eligibility purposes, and sections 127(b)(2)(C) and 132(b)(1)(B)(v)(IV) define the terms “disadvantaged youth” and “disadvantaged adult” in terms of the poverty line or LLSIL for State formula allotments. The governor and state/local workforce development boards (WDs) use the LLSIL for determining eligibility for youth and adults for certain services. ETA encourages governors and State/local boards to consult the WIOA operating guidance, and after its publication, the WIOA Final Rule, for more specific guidance in applying LLSIL to program requirements. The U.S. Department of Health and Human Services (HHS) published the most current poverty-level guidelines in the Federal Register on January 18, 2018 (Volume 83, Number 12), pp. 2642-2644. The HHS 2018 Poverty guidelines may also be found on the internet at https://aspe.hhs.gov/poverty-guidelines. ETA plans to have the 2018 LLSIL available on its website at http://www.doleta.gov/llsil.

WIOA Section 3(36)(B) defines LLSIL as “that income level (adjusted for regional, metropolitan, urban and rural differences and family size) determined annually by the Secretary [of Labor] based on the most recent lower living family budget issued by the Secretary.” The most recent lower living family budget was issued by the Secretary in fall 1981. The four-person urban family budget estimates, previously published by the U.S. Bureau of Labor Statistics (BLS), provided the basis for the Secretary to determine the LLSIL. BLS terminated the four-person family budget series in 1982, after publication of the fall 1981 estimates. Currently, BLS provides data to ETA, which ETA then uses to develop the LLSIL tables, as provided in the Appendices to this Federal Register notice.

ETA published the 2017 updates to the LLSIL in the Federal Register of May 23, 2017, at Vol. 82, No.98 pp. 23595-23601. This notice again updates the LLSIL to reflect cost of living increases for 2017, by calculating the percentage change in the most recent 2017 Consumer Price Index for All Urban Consumers (CPI-U) for an area to the 2017 CPI-U, and then applying this calculation to each of the May 23, 2017 LLSIL figures for the 2018 LLSIL.

The updated figures for a four-person family are listed in Appendix A, Table 1, by region for both metropolitan and non-metropolitan areas. Numbers in all of the Appendix tables are rounded up to the nearest dollar. Since program eligibility for “low-income individuals”, “disadvantaged adults” and “disadvantaged youth” may be determined by family income at 70 percent of the LLSIL, pursuant to WIOA Section 3 (36)(A)(ii) and Section 3(36)(B), respectively, those figures are listed as well.

I. Jurisdictions

Jurisdictions included in the various regions, based generally on the Census Regions of the U.S. Department of Commerce, are as follows:

A. Northeast

Connecticut

Maine

Massachusetts

New Hampshire

New Jersey

New York

Pennsylvania

Rhode Island

Vermont

Virgin Islands

B. Midwest

Illinois

Indiana

Iowa

Kansas

Michigan

Minnesota

Missouri

Nebraska

North Dakota

Ohio

South Dakota

Wisconsin

C. South

Alabama

American Samoa

Arkansas

Delaware

District of Columbia

Florida

Georgia

Northern Marianas

Oklahoma

Palau

Puerto Rico

South Carolina

Kentucky

Louisiana

Marshall Islands

Maryland

Micronesia

Mississippi

North Carolina

Tennessee

Texas

Virginia

West Virginia

D. West

Arizona

California

Colorado

Idaho

Montana

Nevada

New Mexico

Oregon

Utah

Washington

Wyoming

Additionally, separate figures have been provided for Alaska, Hawaii, and Guam as indicated in Appendix B, Table 2.

Data on 23 selected Metropolitan Statistical Areas (MSAs) are also available. These are based on annual CPI-U changes for a 12-month period ending in December 2017. The updated LLSIL figures for these MSAs and 70 percent of LLSIL are reported in Appendix C, Table 3.

Appendix D, Table 4 lists each of the various figures at 70 percent of the updated 2017 LLSIL for family sizes of one to six persons. Because Tables 1-3 only list the LLSIL for a family of four, Table 4 can be used to separately determine the LLSIL for families of between one and six persons. For families larger than six persons, an amount equal to the difference between the six-person and the five-person family income levels should be added to the six-person family income level for each additional person in the family. Where the poverty level for a particular family size is greater than the corresponding 70 percent of the LLSIL figure, the figure is shaded. A modified Microsoft Excel version of Appendix D, Table 4, with the area names, will be available on the ETA LLSIL website at http://www.doleta.gov/llsil. Appendix E, Table 5, indicates 100 percent of LLSIL for family sizes of one to six, and is used to determine self-sufficiency as noted at Section 3 (36)(a)(ii) and Section 3 (36)(B),(C)(ii) in WIOA.

II. Use of These Data

Governors should designate the appropriate LLSILs for use within the State from Appendices A, B, and C, containing Tables 1 through 3. Appendices D and E, which contain Tables 4 and 5, which adjust a family of four figure for larger and smaller families, may be used with any LLSIL designated area. The governor's designation may be provided by disseminating information on MSAs and metropolitan and non-metropolitan areas within the state or it may involve further calculations. For example, the State of New Jersey may have four or more LLSIL figures for Northeast metropolitan, Northeast non-metropolitan, portions of the state in the New York City MSA, and those in the Philadelphia MSA. If a workforce investment area includes areas that would be covered by more than one LLSIL figure, the governor may determine which is to be used.

A state's policies and measures for the workforce investment system shall be accepted by the Secretary to the extent that they are consistent with WIOA and WIOA regulations.

III. Disclaimer on Statistical Uses

It should be noted that publication of these figures is only for the purpose of meeting the requirements specified by WIOA as defined in the law and regulations. BLS has not revised the lower living family budget since 1981, and has no plans to do so. The four-person urban family budget estimates series has been terminated. The CPI-U adjustments used to update LLSIL for this publication are not precisely comparable, most notably because certain tax items were included in the 1981 LLSIL, but are not in the CPI-U. Thus, these figures should not be used for any statistical purposes, and are valid only for those purposes under WIOA as defined in the law and regulations.

Appendix A

Table 1—Lower Living Standard Income Level (for a Family of Four Persons) by Region ¹
Region ¹ | 2018 adjusted LLSIL | 70 percent LLSIL
Northeast ²:
Metro | $43,738 | $30,617
Non-Metro ³ | 43,133 | 30,193
Midwest:
Metro | 38,320 | 26,824
Non-Metro | 36,784 | 25,764
South:
Metro | 37,323 | 26,126
Non-Metro | 36,499 | 25,549
West:
Metro | 43,252 | 30,277
Non-Metro ⁴ | 42,968 | 30,078
¹ For ease of use, these figures are rounded to the next dollar.
² Metropolitan area measures were calculated from the weighted average CPI-U's for city size classes A and B/C. Non-metropolitan area measures were calculated from the CPI-U's for city size class D.
³ Non-metropolitan area percent changes for the Northeast region are no longer available. The Non-metropolitan percent change was calculated using the U.S. average CPI-U for city size class D.
⁴ Non-metropolitan area percent changes for the West region are based on unpublished BLS data.

Appendix B

Table 2—Lower Living Standard Income Level (for a Family of Four Persons), for Alaska, Hawaii and Guam ¹
Region ¹ | 2018 adjusted LLSIL | 70 percent LLSIL
Alaska:
Metro | $49,485 | $34,639
Non-Metro ² | 55,570 | 38,899
Hawaii, Guam:
Metro | 55,194 | 38,636
Non-Metro ² | 59,325 | 41,527
¹ For ease of use, these figures are rounded.
² Non-Metropolitan percent changes for Alaska, Hawaii and Guam were calculated from the CPI-U's for all urban consumers for city size class D in the Western Region. Generally the non-metro areas LLSIL is lower than the LLSIL in metro areas. This year the non-metro area LLSIL incomes were larger because the change in CPI-U was smaller in the metro areas compared to the change in CPI-U in the non-metro areas of Alaska, Hawaii and Guam.

Appendix C

Table 3—Lower Living Standard Income Level (for a Family of Four Persons), for 23 Selected MSAs ¹
Metropolitan Statistical Areas (MSAs) ¹ | 2018 adjusted LLSIL | 70 percent LLSIL
Anchorage, AK ² | $49,539 | $34,677
Atlanta, GA | 36,107 | 25,275
Boston-Brockton-Nashua, MA/NH/ME/CT | 47,176 | 33,023
Chicago-Gary-Kenosha, IL/IN/WI | 38,768 | 27,138
Cincinnati-Hamilton, OH/KY/IN | 37,500 | 26,250
Cleveland-Akron, OH | 38,293 | 26,805
Dallas-Ft. Worth, TX | 35,520 | 24,864
Denver-Boulder-Greeley, CO | 41,362 | 28,954
Detroit-Ann Arbor-Flint, MI ² | 36,516 | 25,561
Honolulu, HI | 55,968 | 39,178
Houston-Galveston-Brazoria, TX | 36,107 | 25,275
Kansas City, MO/KS | 36,114 | 25,280
Los Angeles-Riverside-Orange County, CA ² | 44,149 | 30,904
Milwaukee-Racine, WI | 37,664 | 26,365
Minneapolis-St. Paul, MN/WI | 38,359 | 26,851
New York-Northern NJ-Long Island, NY/NJ/CT/PA ² | 46,413 | 32,489
Philadelphia-Wilmington-Atlantic City, PA/NJ/DE/MD | 41,635 | 29,144
Pittsburgh, PA | 46,664 | 32,665
St. Louis, MO/IL | 35,426 | 24,798
San Diego, CA | 49,297 | 34,508
San Francisco-Oakland-San Jose, CA | 48,246 | 33,772
Seattle-Tacoma-Bremerton, WA | 47,434 | 33,204
Washington-Baltimore, DC/MD/VA/WV ² | 46,697 | 32,688
¹ For ease of use, these figures are rounded to the next dollar.
² Calculated as a single metropolitan statistical area.

Appendix D

Table 4: 70 Percent of Updated 2018 Lower Living Standard Income Level (LLSIL), by Family Size

To use the 70 percent LLSIL value, where it is stipulated for the WIOA programs, begin by locating the region or metropolitan area where the program applicant resides. These are listed in Tables 1, 2 and 3. After locating the appropriate region or metropolitan statistical area, find the 70 percent LLSIL amount for that location. The 70 percent LLSIL figures are listed in the last column to the right on each of the three tables. These figures apply to a family of four. Larger and smaller family eligibility is based on a percentage of the family of four. To determine eligibility for other size families consult Table 4 and the instructions below.

To use Table 4, locate the 70 percent LLSIL value that applies to the individual's region or metropolitan area from Tables 1, 2 or 3. Find the same number in the “family of four” column of Table 4. Move left or right across that row to the size that corresponds to the individual's family unit. That figure is the maximum household income the individual is permitted in order to qualify as economically disadvantaged under the WIOA.

Where the HHS poverty level for a particular family size is greater than the corresponding LLSIL figure, the LLSIL figure appears in a shaded block. Individuals from these size families may consult the 2017 HHS poverty guidelines found on the Health and Human Services website at https://aspe.hhs.gov/poverty-guidelines to find the higher eligibility standard. Individuals from Alaska and Hawaii should consult the HHS guidelines for the generally higher poverty levels that apply in their States.

BILLING CODE 4510-FT-P

BILLING CODE 4510-FT-C

Appendix E

Table 5: Updated 2018 LLSIL (100 Percent), by Family Size

To use the LLSIL to determine the minimum level for establishing self-sufficiency criteria at the State or local level, begin by locating the metropolitan area or region from Table 1, 2 or 3. Then locate the appropriate region or metropolitan statistical area and then find the 2015 adjusted LLSIL amount for that location. These figures apply to a family of four. Locate the corresponding number in the family of four in the column below. Move left or right across that row to the size that corresponds to the individual's family unit. That figure is the minimum figure that States must set for determining whether employment leads to self-sufficiency under WIOA programs.

Family of one | Family of two | Family of three | Family of four | Family of five | Family of six
12,763 | 20,910 | 28,701 | 35,426 | 41,809 | 48,889
12,794 | 20,966 | 28,779 | 35,520 | 41,923 | 49,024
13,009 | 21,313 | 29,252 | 36,107 | 42,612 | 49,834
13,001 | 21,307 | 29,258 | 36,107 | 42,612 | 49,831
13,001 | 21,312 | 29,261 | 36,114 | 42,620 | 49,845
13,150 | 21,543 | 29,567 | 36,499 | 43,072 | 50,372
13,150 | 21,545 | 29,583 | 36,516 | 43,091 | 50,391
13,255 | 21,703 | 29,798 | 36,784 | 43,418 | 50,774
13,442 | 22,026 | 30,231 | 37,323 | 44,050 | 51,518
13,503 | 22,133 | 30,384 | 37,500 | 44,256 | 51,754
13,559 | 22,225 | 30,512 | 37,664 | 44,449 | 51,981
13,789 | 22,603 | 31,021 | 38,293 | 45,192 | 52,845
13,797 | 22,615 | 31,040 | 38,320 | 45,219 | 52,893
13,815 | 22,637 | 31,079 | 38,359 | 45,273 | 52,944
13,957 | 22,882 | 31,401 | 38,768 | 45,753 | 53,511
14,897 | 24,412 | 33,513 | 41,362 | 48,810 | 57,086
14,997 | 24,571 | 33,729 | 41,635 | 49,139 | 57,461
15,471 | 25,355 | 34,812 | 42,968 | 50,712 | 59,309
15,531 | 25,458 | 34,948 | 43,133 | 50,906 | 59,523
15,572 | 25,519 | 35,037 | 43,252 | 51,039 | 59,696
15,752 | 25,816 | 35,431 | 43,738 | 51,620 | 60,363
15,895 | 26,048 | 35,763 | 44,149 | 52,097 | 60,935
16,711 | 27,391 | 37,596 | 46,413 | 54,768 | 64,061
16,808 | 27,543 | 37,807 | 46,664 | 55,073 | 64,404
16,818 | 27,561 | 37,831 | 46,697 | 55,112 | 64,454
16,987 | 27,839 | 38,224 | 47,176 | 55,676 | 65,106
17,087 | 27,989 | 38,428 | 47,434 | 55,978 | 65,463
17,378 | 28,475 | 39,082 | 48,246 | 56,936 | 66,591
17,756 | 29,087 | 39,937 | 49,297 | 58,176 | 68,039
17,823 | 29,199 | 40,090 | 49,485 | 58,397 | 68,301
17,843 | 29,239 | 40,132 | 49,539 | 58,466 | 68,366
19,881 | 32,568 | 44,716 | 55,194 | 65,134 | 76,179
20,014 | 32,787 | 45,016 | 55,570 | 65,576 | 76,686
20,156 | 33,024 | 45,334 | 55,968 | 66,045 | 77,247
21,364 | 35,011 | 48,058 | 59,325 | 70,007 | 81,872

Rosemary Lahasky,
Deputy Assistant Secretary.

[FR Doc. 2018-11461 Filed 5-25-18; 8:45 am]

BILLING CODE 4510-FT-P